DEPARTMENT OF AGRICULTURE

Food and Nutrition Service

Agency Information Collection Activities: Proposed Collection; Comment Request—Supplemental Nutrition Assistance Program Forms: Applications, Periodic Reporting and Notices

AGENCY: Food and Nutrition Service, USDA.

ACTION: Notice.

SUMMARY: In accordance with the Paperwork Reduction Act of 1995, this notice invites the general public and other public agencies to comment on the proposed collection. This collection is a revision of the currently approved burden for the applications, periodic reporting, and notices burden calculations for the Supplemental Nutrition Assistance Program (SNAP), formerly known as the Food Stamp Program, which also reflects corrections resulting from the changes in recently published SNAP regulations.

DATES: Written comments must be received on or before September 13, 2010.

ADDRESSES: Comments are invited on: (a) Whether the proposed collection of information is necessary for the proper performance of the functions of the agency, including whether the information shall have practical utility; (b) the accuracy of the agency's estimate of the burden of the proposed collection of information including the validity of the methodology and assumptions used; (c) ways to enhance the quality, utility, and clarity of the information to be collected; (d) ways to minimize the burden of the collection of information on those who respond, including through the use of appropriate automated, electronic, mechanical, or other technological collection techniques or other forms of information technology.

Comments may be sent to Angela Kline, Chief, Certification Policy Branch, Program Development Division, Food and Nutrition Service, U.S. Department of Agriculture, 3101 Park Center Drive, Room 812, Alexandria, VA 22302. Comments may also be faxed to the attention of Ms. Kline at (703) 305-2486.

Comments will also be accepted through the Federal eRulemaking Portal. Go to http://www.regulations.gov and follow the online instructions for submitting comments electronically.

All written comments will be open for public inspection at the office of the Food and Nutrition Service during regular business hours (8:30 am to 5 pm, Monday through Friday) at 3101 Park Center Drive, Alexandria, Virginia, 22302, Room 800.

All responses to this notice will be summarized and included in the request for the Office of Management and Budget (OMB) approval. All comments will be a matter of public record.

FOR FURTHER INFORMATION CONTACT: Requests for additional information should be directed to Ms. Kline at (703) 305-2495.

SUPPLEMENTARY INFORMATION: Title: Supplemental Nutrition Assistance Program Forms: Applications, Periodic Reporting and Notices.

OMB Number: 0584-0064.

Form Number: N/A.

Expiration Date: 12/31/2010.

Type of Request: Revision of the currently approved burden hours totaling 24,893,623 hours.

Abstract: This notice extends the applications, periodic reporting, and notices burden calculations for the Supplemental Nutrition Assistance Program (SNAP), which were recently revised and approved by the Office of Management and Budget (OMB) on March 26, 2010, and also reflects corrections resulting from changes in the Farm Security and Rural Investment Act of 2002 (FSRIA) final rule, published on January 29, 2010 (75 FR 4912). The SNAP regulations at 7 CFR Part 273 contain the requirements for the application, certification and continued eligibility of SNAP benefits.

The correction referenced in the above paragraph pertains to the simplified reporting component under the previously approved collection. The simplified reporting burden estimate approved under OMB clearance number 0584-0064, Food Stamp Forms: Applications, Periodic Reporting, Notices, expiring on December 31, 2010, was improperly calculated. In analyzing the data used to determine the burden estimate, we noted that the number of households under a simplified reporting system was overestimated. As a result of this overestimation, the burden for simplified reporting was miscalculated. Based on this, we estimate that the total burden for this collection will decrease from 24,893,623 hours to 23,609,236 hours.

Additionally, Section 4001(b) of Public Law 110-246, Food, Conservation, and Energy Act of 2008 (FCEA), renamed the Food Stamp Program to the Supplemental Nutrition Assistance Program or SNAP. The new program name reflects the fact that participants no longer receive stamps or coupons to make food purchases and emphasizes the nutritional aspect of the program. To comply with current law, FNS is using the new program name SNAP in this extension of information collection for OMB No. 0584-0064. It should be noted, however, that the program regulations at 7 CFR Parts 271-285 have not yet been revised to reflect the new name.

Reporting Burden

Initial Application for SNAP. Section 273.2 of the SNAP regulations requires that each applicant household complete and file an application, either in paper or electronic form. The application contains detailed information about each household member, income, and resources that is necessary to determine if the applicant household is entitled to assistance and, if so, the benefit amount. According to information reported by SNAP State agencies to FNS and compiled in the May 2009 National Data Bank Survey (NDB), there were 15,235,501 households certified with initial applications in SNAP. FNS estimates a total household burden of 4,834,224 hours (15,235,501 initial certifications × .3173 hours (19 minutes) to complete application = 4,834,224 burden hours). FNS estimates the State agency burden to be 4,834,224 hours (15,235,501 initial certification applications × .3173 hours to review applications = 4,834,224 burden hours).

Application for SNAP Recertification. Section 273.14 of the SNAP regulations indicates that in order to continue participating in SNAP, ongoing households must apply for recertification prior to the end of their current certification periods. According to the May 2009 NDB report, there were 12,252,802 recertification applications in SNAP. FNS estimates a total household burden of 3,887,814 hours (12,252,802 recertification applications × .3173 hours (or 19 minutes) to complete application = 3,887,814 burden hours). FNS estimates a burden of 3,887,814 hours (12,252,802 recertification applications × .3173 hours (or 19 minutes) to review applications = 3,887,814 burden hours) for the State agency review process.

Monthly Report. Under § 273.21 of the SNAP regulations, households subject to monthly reporting are required to submit reports of their circumstances on a monthly basis. According to FNS 2008 Quality Control data, a total of 86,142 households in two States (Minnesota and South Dakota) are subject to change reporting, resulting in a household burden of 110,770 hours (86,142 households × 11 reports per year × .1169 hours (or 7 minutes) to complete a report = 110,770 burden hours). FNS estimates these State agencies will incur a burden of 174,067 hours (86,142 households × 11 reports per year × 0.1837 hours (or 11 minutes) to review each report = 174,067 burden hours).

Quarterly Report. Under § 273.12(a)(4) of the SNAP regulations, State agencies may require households to report changes on a quarterly basis. Currently, California is the only state that requires households to report changes in circumstances on a quarterly basis. The May 2009 NDB report indicates that 83 percent of California's caseload is under quarterly reporting, which results in 1,101,891 households. FNS estimates a household burden of 441,638 hours (1,101,891 household under quarterly reporting × 3 reports per year × .1336 hours (or 8 minutes) to complete a report = 441,638 burden hours) for quarterly reporting. The State agency burden is estimated at 662,457 hours (1,101,891 household under quarterly reporting × 3 reports per year × .2004 hours (or 12 minutes) to review each report = 662,457 burden hours).

Simplified Report. Section 273.12(a)(5) of the SNAP regulations allows State agencies to establish a simplified reporting system in which households certified for longer than 6 months must submit a periodic report that is due no later than the 6th month of their certification period. According to the FNS Office of Research and Analysis' 2008 data on SNAP reporting systems, a total of 6,238,761 households are currently subject to simplified reporting. FNS estimates a household burden of 833,498 hours (6,238,761 reports × .1336 hours (or 8 minutes) to complete each periodic report = 833,498 burden hours). FNS estimates a burden of 1,146,060 hours (6,238,761 reports × .1837 hours (or 11 minutes) to review each report = 1,146,060 burden hours) for State agencies.

Change Report. Under § 273.12(a)(1) of the SNAP regulations, households not subject to monthly, quarterly reporting or simplified reporting must report most changes in household circumstances within 10 days from the date that the change becomes known to the household. Based on information provided by State agencies in 2008 and compiled by FNS in the 2008 State Options Report, (dated June 2008) FNS estimates that 844,245 households assigned to change reporting each submit 2.5 reports each year, resulting in a total of 176,236 burden hours per year (844,245 households × 2.5 reports × .0835 hours (or 5 minutes) per report = 176,236 burden hours) for households. FNS estimates a State agency burden total of 387,720 hours (844,245 households × 2.5 reports × .1837 hours (or 11 minutes) to review each report = 387,720 burden hours).

Notice of Eligibility or Denial. According to § 273.10(g)(1) of the SNAP regulations, State agencies provide these notices to advise households of the disposition of their application for initial certification or recertification. Based on the May 2009 NDB data, an estimated 32,600,716 eligibility and denial notices are issued annually by all 53 State agencies. This leads to an estimated burden of 1,088,864 hours (32,600,716 notices × .0334 hours (or 2 minutes) per notice = 1,088,864 burden hours), for all 53 State agencies to generate and issue notices of approvals and denials of applications.

Other Notices

Notice of Missing or Incomplete Report. The SNAP regulations require that State agencies advise ongoing households when they have failed to submit complete or timely periodic reports under monthly, quarterly or simplified reporting systems.

Request for Contact (RFC). The RFC notice, as indicated in § 273.12(a)(3)(i) of the SNAP regulations, is used to contact the household when the State agency receives information regarding a potential change in a household's eligibility or benefits and such information is not sufficient for the State agency to determine exactly how the household's status would be affected.

Notice of Missed Interview (NOMI). Per § 273.14(b)(3)(ii) of the SNAP regulations, NOMIs are issued by State agencies to households that fail to appear for their scheduled initial or recertification interview, or in the case of households subject to telephone interviews, fail to contact the State agency or receive telephone calls initiated by the local office.

Notice of Expiration (NOE). As indicated in § 273.14(b)(1)(i) of the SNAP regulations, State agencies are required to mail an NOE to currently participating households at least 30 days prior to the expiration of their current certification period.

Notice of Adverse Action (NOAA). The NOAA, as indicated in § 273.13(a) of the SNAP regulations, is issued by State agencies to participating households whose benefits will be reduced or terminated as the result of a change in household circumstances.

Adequate Notice. As indicated in § 273.13(a) of the SNAP regulations, an adequate notice is sent to households by the State agency when the household's benefits are reduced or terminated based on information reported by the household.

Transitional Benefits Notice (TN). According to § 273.26 of the SNAP regulations, States have the option to provide transitional benefits to families leaving the Temporary Assistance for Needy Families program (TANF).

FNS estimates that a total of 21,089,658 notices (described as Other Notices) are issued annually by all 53 State agencies, with an average burden of 3 minutes or .0501 hours per notice. Based on this information, we estimate a total annual burden of 1,056,592 hours (21,089,658 notices × .0501 hours = 1,056,592 burden hours) for State agencies to generate and issue notices.

Recordkeeping Burden

State agencies are required to maintain client case records for 3 years and to perform duplicate participation checks on individual household members to ensure the member is not participating in more than one household.

(A) Case Files: The caseload to be maintained is equal to the number of participating households and their subsequent files, including documentation (i.e., electronic files, caseworker written entries into the files, or hard copies of the documents) for notices which were sent to the households. FNS estimates that 253,862 documents will be sent to households in addition to the number of documents estimated and approved under the previous collection. The increase in recordkeeping burden associated with this revision is estimated to be 8,479 hours (253,862 documents × .0334 hours = 8,479 burden hours).

(B) Monitoring Duplicate Participation: The recordkeeping burden for maintaining this automated system is determined by multiplying the number of total applications expected to be received, the average number of persons (2.3) in each household, and the processing time per response (15 seconds or 0.0042 hours). Due to the rapid increase in caseload, 8,155,221 more applications than in the previously approved collection of 20,250,469 applications are expected to be received, thus increasing the estimated burden hours to 78,779 hours over the previously approved burden (8,155,221 applications × 2.3 average # of persons × .0042 hours = 78,779 burden hours).

(C) The total recordkeeping burden estimated under this revision is 87,258 hours.

The following tables illustrate all of the components of the reporting and recordkeeping burdens associated with this information collection.

Reporting
Section of regulation | Title | Form Number (if any) | Estimated Number of respondents | Report filed annually | Total annual responses/records | Estimated avg. Number of man-hours per response | Estimated total man-hours
A | B | C | D | E | F | G | H (Col. F×G)
State Agency Level
273.2(b) | Initial Application for SNAP |  | 53 | 287,462.30 | 15,235,501 | .3173 | 4,834,224
273.10(g)(2) & 273.14(b) | SNAP Recertification Applications |  | 53 | 231,184.94 | 12,252,802 | .3173 | 3,887,814
273.21(a) | Monthly Reports |  | 2 |  |  |  |
| Households |  | 86,142 | 11.00 | 947,562 | .1837 | 174,067
273.12(a)(4) | Quarterly Reports |  | 1 | 3,305,673.00 | 3,305,673 | .2004 | 662,457
273.12(a)(5) | Simplified Reporting—# HH on SR |  | 50 | 124,775.22 | 6,238,761 | .1837 | 1,146,060
273.12(a)(1)(i)(A) | Change Report—# HH on CR |  | 32 | 65,956.65 | 2,110,612.80 | .1837 | 387,720
273.10(g)(1)(i) & (ii) | Notice of Eligibility/Denial |  | 53 | 615,107.85 | 32,600,716 | .0334 | 1,088,864
| Other Notices (not captured individually and included below) |  | 53 | 397,918.08 | 21,089,658 | .0501 | 1,056,592
273.12(a)(4)(iii); 273.12(a)(5)(iii)(D); 273.12(a)(6)(i); 273.21(j)(2)(i) | Notice of Missing/Incomplete Report |  |  |  |  |  |
273.12(c)(3)(i) | Request for Contact |  |  |  |  |  |
273.10(b)(3)(iii) | Notice of Missed Interview |  |  |  |  |  |
273.2(i)(4)(iii)(A) & (B), 273.2(k)(1)(iii)(B)(2) & (E)(2) | Notice of Expiration |  |  |  |  |  |
273.13(a) | Notice of Adverse Action |  |  |  |  |  |
273.13(b)(3) & 273.13(c) | Adequate Notice |  |  |  |  |  |
273.29 | Transitional Benefits Notice |  | 53 | 0 | 0 | 0 | 0
State Agency Level Totals |  |  | 53 | 5,028,089 | 93,781,286 |  | 13,237,798
Household Level
273.2(b) | Initial Application for SNAP |  | 15,235,501 | 1.00 | 15,235,501 | .3173 | 4,834,224
273.10(g)(2) & 273.14(b) | SNAP Recertification Applications |  | 12,252,802 | 1.00 | 12,252,802 | .3173 | 3,887,814
273.21(a) | Monthly Report |  | 86,142 | 11.00 | 947,562 | .1169 | 110,770
273.12(a)(4) | Quarterly Report |  | 1,101,891 | 3.00 | 3,305,673 | .1336 | 441,638
273.12(a)(5) | Simplified Report |  | 6,238,761 | 1.00 | 6,238,761 | .1336 | 833,498
273.12(a)(1)(i)(A) | Change Report |  | 844,245 | 2.50 | 2,110,613 | .0835 | 176,236
273.10(g)(1)(i) & (ii) | Notice of Eligibility/Denial |  | 0 | 0 | 0 | 0 | 0
| Other Notices (not captured individually and included below) |  | 0 | 0 | 0 | 0 | 0
273.12(a)(4)(iii); 273.12(a)(5)(iii)(D); 273.12(a)(6)(i); 273.21(j)(2)(i) | Notice of Missing/Incomplete Report |  |  |  |  |  |
273.12(c)(3)(i) | Request for Contact |  |  |  |  |  |
273.10(b)(3)(iii) | Notice of Missed Interview |  |  |  |  |  |
273.2(i)(4)(iii)(A) & (B), 273.2(k)(1)(iii)(B)(2) & (E)(2) | Notice of Expiration |  |  |  |  |  |
273.13(a) | Notice of Adverse Action |  |  |  |  |  |
273.13(b)(3) & 273.13(c) | Adequate Notice |  |  |  |  |  |
273.29 | Transitional Benefits Notice |  | 0 | 0 | 0 | 0 | 0
Household Level Totals |  |  | 35,759,342 | 19.5 | 40,090,912 |  | 10,284,180

Recordkeeping
Section of regulation | Title | Form Number (if any) | Estimated Number of respondents | Report filed annually | Total annual responses | Estimated avg. no. of man-hours per response | Estimated total man-hours
A | B | C | D | E | F (Col. D×E) | G | H (Col. F×G)
State Agency Level
Part 273 | Maintenance of Case Files |  | 53 | 4,789.85 | 253,862 | 0.0334 | 8,479
272.4 | Monitoring of Duplicate Participation |  | 53 | 353,905.81 | 18,757,008 | 0.0042 | 78,779
State Agency Level Totals |  |  | 53 | 358,695.66 | 19,010,870 |  | 87,258

Summary of Reporting Burden Hours

Affected Public: State and local government agencies administering SNAP and Individuals/Households.

Estimated Number of Respondents: 35,759,342: (State Agencies: 53 and Households: 35,759,342).

Estimated Number of Reports Filed Annually: State Agency: 5,028,089 Households: 19.50.

Estimated Number of Responses: 133,872,198: (State Agencies: 93,781,286 and Households: 40,090,912).

Estimated Total Annual Burden for Respondents: 23,521,978: (State Agencies: 13,237,798 and Households: 10,284,180).

Estimated Total Reporting and Recordkeeping Burden Hours: 23,521,978 + 87,258 = 23,609,236.

Dated: July 7, 2010.
Audrey Rowe,
Acting Administrator, Food and Nutrition Service.

[FR Doc. 2010-17183 Filed 7-13-10; 8:45 am]

BILLING CODE 3410-30-P